DEPARTMENT OF DEFENSE

Department of the Army; Corps of Engineers

Notice of Availability of a Final General Conformity Determination and Record of Decision for the Berths 136-147 [TraPac] Container Terminal Project, Port of Los Angeles, Los Angeles County, CA

AGENCY: Department of the Army—U.S. Army Corps of Engineers, DoD.

ACTION: Notice of Availability.

SUMMARY: In November 2007, the U.S. Army Corps of Engineers, Los Angeles District, Regulatory Division (Corps) in coordination with the Los Angeles Harbor Department (LAHD) completed and published a joint Final Environmental Impact Statement/Environmental Impact Report (EIS/EIR) for the Berths 136-147 [TraPac] Container Terminal Project (Project) in the Port of Los Angeles. On November 14, 2008, the Corps published an Addendum to the Final EIS, including a Draft General Conformity Determination, for the Federal action associated with the Project. Comments were received on the Addendum to the Final EIS and Draft General Conformity Determination until December 15, 2008. A General Conformity Determination was required because Project construction would require Federal action (i.e., issuance of a Corps permit for work and structures in and over navigable waters, discharges of fill into waters of the U.S., and transport and disposal of dredged material in ocean waters) and not all the Federal action's direct and indirect air emissions would be below specified de minimis thresholds (40 CFR 93.153(b)). On March 12, 2009, the Corps completed its environmental review and made a Final General Conformity Determination, executed the Record of Decision (ROD), and issued a Standard Individual Permit for the Federal action associated with the Project, pursuant to Section 404 of the Clean Water Act, Section 10 of the River and Harbor Act, and Section 103 of the Marine Protection, Research, and Sanctuaries Act. The Corps considered and responded to all comments received in making the Final General Conformity Determination, executing the ROD, and issuing the Corps permit. The pubic can request copies of the Final General Conformity Determination document or the ROD from the Corps at the address listed below, or can view or download the Final General Conformity Determination document from the Corps' Web site (http://www.spl.usace.army.mil/regulatory/POLA.htm, scroll down to the links under TraPac Project) or the Port's Web site (http://www.portoflosangeles.org/EIR/TraPac/FEIR/feir_trapac.asp). In addition, copies of the Final General Conformity document are available for review during the next 30 days at the following libraries: L.A. Public Library, Central Branch, 630 West 5th Street, Los Angeles California; L.A. Public Library, San Pedro Branch, 921 South Gaffey Street, San Pedro, California; and L.A. Public Library, Wilmington Branch, 1300 North Avalon, Wilmington, California.

FOR FURTHER INFORMATION CONTACT: Questions or requests concerning the Final General Conformity Determination or the ROD should be directed to Dr. Spencer D. MacNeil, Senior Project Manager, North Coast Branch, Regulatory Division, U.S. Army Corps of Engineers, 2151 Alessandro Drive, Suite 110, Ventura, California 93001, (805) 585-2152.

SUPPLEMENTARY INFORMATION: None.

David J. Castanon,
Chief, Regulatory Division, Los Angeles District.

[FR Doc. E9-8239 Filed 4-9-09; 8:45 am]

BILLING CODE 3710-KF-P